SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Atlas Resources, LLC, Pad ID: Rhodes Well Pad, ABR-201201018.R1, Gamble Township, Lycoming County, Pa.; Consumptive Use of Up to 3.6000 mgd; Approval Date: September 2, 2016.

2. Chesapeake Appalachia, LLC, Pad ID: Krise, ABR-201111022.R1, Leroy Township, Bradford County, Pa.; Consumptive Use of Up to 7.5000 mgd; Approval Date: September 2, 2016.

3. Chesapeake Appalachia, LLC, Pad ID: Schlapfer, ABR-201202006.R1, Albany Township, Bradford County, Pa.; Consumptive Use of Up to 7.5000 mgd; Approval Date: September 2, 2016.

4. Chesapeake Appalachia, LLC, Pad ID: Moyer, ABR-201202019.R1, Overton Township, Bradford County, Pa.; Consumptive Use of Up to 7.5000 mgd; Approval Date: September 2, 2016.

5. Chief Oil & Gas LLC, Pad ID: L & L Construction A Drilling Pad #1, ABR-201202014.R1, Wilmot Township, Bradford County, Pa.; Consumptive Use of Up to 2.0000 mgd; Approval Date: September 6, 2016.

6. SWN Production Company LLC, Pad ID: Shively Pad, ABR-201108011.R1, Lenox Township, Susquehanna County, Pa.; Consumptive Use of Up to 4.9900 mgd; Approval Date: September 6, 2016.

7. Range Resources—Appalachia, LLC, Pad ID: Gulf USA 40H-42H, ABR-201609001, Snow Shoe Township, Centre County, Pa.; Consumptive Use of Up to 1.0000 mgd; Approval Date: September 15, 2016.

8. Chief Oil & Gas, LLC, Pad ID: Stasiak Drilling Pad #1, ABR-201203025.R1, Pike Township, Bradford County, Pa.; Consumptive Use of Up to 2.0000 mgd; Approval Date: September 19, 2016.

9. SWN Production Company LLC, Pad ID: SKELLY, ABR-201112005.R1, New Milford Township, Susquehanna County, Pa.; Consumptive Use of Up to 4.9990 mgd; Approval Date: September 19, 2016.

10. SWN Production Company LLC, Pad ID: TNT 1 LIMITED PARTNERSHIP, ABR-201112006.R1, New Milford Township, Susquehanna County, Pa.; Consumptive Use of Up to 4.9990 mgd; Approval Date: September 19, 2016.

11. SWN Production Company LLC, Pad ID: INNES, ABR-201111032.R1, New Milford Borough, Susquehanna County, Pa.; Consumptive Use of Up to 4.9990 mgd; Approval Date: September 19, 2016.

12. Chief Oil & Gas, LLC, Pad ID: Muzzy Drilling Pad #1, ABR-201202027.R1, Ulster Township, Bradford County, Pa.; Consumptive Use of Up to 2.0000 mgd; Approval Date: September 21, 2016.

13. Chief Oil & Gas, LLC, Pad ID: Ober Drilling Pad #1, ABR-201203026.R1, Asylum Township, Bradford County, Pa.; Consumptive Use of Up to 2.0000 mgd; Approval Date: September 21, 2016.

14. Cabot Oil & Gas Corporation, Pad ID: EllsworthA P1, ABR-201110015.R1, Bridgewater Township, Susquehanna County, Pa.; Consumptive Use of Up to 3.5750 mgd; Approval Date: September 22, 2016.

15. Cabot Oil & Gas Corporation, Pad ID: LippincoffF P1, ABR-201110014.R1, Brooklyn Township, Susquehanna County, Pa.; Consumptive Use of Up to 3.5750 mgd; Approval Date: September 22, 2016.

16. Cabot Oil & Gas Corporation, Pad ID: WellsP P1, ABR-201111023.R1, Bridgewater Township, Susquehanna County, Pa.; Consumptive Use of Up to 3.5750 mgd; Approval Date: September 22, 2016.

17. Cabot Oil & Gas Corporation, Pad ID: HessR P1, ABR-201111034.R1, Dimock Township, Susquehanna County, Pa.; Consumptive Use of Up to 3.5750 mgd; Approval Date: September 22, 2016.

Authority: Pub. L. 91-575, 84 Stat. 1509 et seq., 18 CFR parts 806, 807, and 808.

Dated: October 14, 2016.
Stephanie L. Richardson,
Secretary to the Commission.

[FR Doc. 2016-25280 Filed 10-18-16; 8:45 am]

BILLING CODE 7040-01-P